SMALL BUSINESS ADMINISTRATION

Notice Seeking Exemption Under Section 312 of the Small Business Investment Act, Conflicts of Interest

Notice is hereby given that Odyssey Venture Partners II, L.P. (“Applicant”), 610 Newport Center Drive, Suite 1400, Newport Beach, CA 92660, an SBIC Applicant under the Small Business Investment Act of 1958, as amended (“the Act”), in connection with the financing of a small concern, has sought an exemption under section 312 of the Act and section 107.730, Financings which Constitute Conflicts of Interest, of the Small Business Administration (“SBA”) rules and regulations (13 CFR 107.730 (2004)). Odyssey Venture Partners II, L.P. proposes to provide equity financing to Oryxe Energy International, Inc., 6 Thomas Avenue, Irvine, CA 92618. The financing is contemplated for working capital and research & development.

A conflict of interest exemption is required because the Oryxe investment is considered financing of an Associate under 13 CFR 107.730(a). Oryxe is an Associate of the Applicant for two reasons: (1) Affiliates of Applicant, Odyssey Strategic Partners (OSP) and Odyssey Strategic Equity (OSE), had a greater than 10 percent fully diluted investment in Oryxe prior to Applicant's initial investment; (2) Walter Schindler, one of Applicant's principals, serves as chairman and CEO of Oryxe.

Notice is hereby given that any interested person may submit written comments on the transaction to the Associate Administrator for Investment, U.S. Small Business Administration, 409 Third Street, SW., Washington, DC 20416.

Jaime Guzmán-Fournier,
Associate Administrator for Investment

[FR Doc. 05-17581 Filed 9-2-05; 8:45 am]

BILLING CODE 8625-01-M